DEPARTMENT OF HOMELAND SECURITY

Coast Guard

33 CFR Part 117

[CGD07-06-050]

RIN 1625-AA09

Drawbridge Operation Regulation; Venetian Causeway (West) Drawbridge, Atlantic Intracoastal Waterway, Mile 1088.6, and Venetian Causeway (East) Drawbridge, Biscayne Bay, Miami, Miami-Dade County, FL; Correction

AGENCY: Coast Guard, DHS.

ACTION: Final rule; correction.

SUMMARY: On April 16, 2007, the Coast Guard published in the Federal Register a final rule that changes the operating regulations governing the Venetian Causeway (West) drawbridge, Atlantic Intracoastal Waterway, mile 1088.6, and Venetian Causeway (East) drawbridge, Biscayne Bay, Miami, Miami-Dade County, Florida. Inadvertently, under the second amendatory instruction, the wrong section number was used in the section heading. This document corrects that incorrect section number.

DATES: This rule is effective May 16, 2007.

FOR FURTHER INFORMATION CONTACT: Mr. Michael Lieberum, Seventh Coast Guard District, Bridge Branch, telephone number 305-415-6744.

SUPPLEMENTARY INFORMATION: In the final rule, published on April 16, 2007, (72 FR 18885), the Coast Guard changed the operating schedule of the Venetian Causeway (West) Drawbridge, Atlantic Intracoastal Waterway, Mile 1088.6, and Venetian Causeway (East) Drawbridge, Biscayne Bay, Miami, Miami-Dade County, FL. In the second amendatory instruction, the amendatory instruction directs a revision to § 117.261, however, in the heading to the section being revised, the section number is listed as § 117.287, even though the heading used is that listed for § 117.261 (Atlantic Intracoastal Waterway from St. Mary's to Key Largo). This correction fixes the error in the section number listed in the section heading.

PART 117—[CORRECTED]

In FR Doc. E7-7157 published on April 16, 2007, (72 FR 18885), make the following correction. On page 18886, in the third column, change the section heading under amendatory instruction 2 to read as follows:

§ 117.261 Atlantic Intracoastal Waterway from St. Marys River to Key Largo.

Dated: April 19, 2007.
Steve Venckus,
Chief, Office of Regulations and Administrative Law.

[FR Doc. E7-7949 Filed 4-25-07; 8:45 am]

BILLING CODE 4910-15-P